DEPARTMENT OF THE INTERIOR

National Park Service

[NPS-WASO-NAGPRA-NPS0035100; PPWOCRADN0-PCU00RP14.R50000]

Notice of Inventory Completion: University of California, San Diego, San Diego, CA

AGENCY: National Park Service, Interior.

ACTION: Notice.

SUMMARY: In accordance with the Native American Graves Protection and Repatriation Act (NAGPRA), the University of California, San Diego has completed an inventory of human remains and associated funerary objects and has determined that there is a cultural affiliation between the human remains and associated funerary objects and Indian Tribes or Native Hawaiian organizations in this notice. The human remains and associated funerary objects were removed from Hale and Tuscaloosa Counties, AL.

DATES: Repatriation of the human remains and associated funerary objects in this notice may occur on or after February 13, 2023.

ADDRESSES: Eva Trujillo, University of California, San Diego, 9500 Gilman Drive, La Jolla, CA 92093, telephone (858) 414-4609, email e7trujillo@ucsd.edu.

SUPPLEMENTARY INFORMATION: This notice is published as part of the National Park Service's administrative responsibilities under NAGPRA. The determinations in this notice are the sole responsibility of the University of California, San Diego. The National Park Service is not responsible for the determinations in this notice. Additional information on the determinations in this notice, including the results of consultation, can be found in the inventory or related records held by the University of California, San Diego.

Description

Human remains representing, at minimum, 478 individuals were removed from various Moundville sites in Hale and Tuscaloosa Counties, AL. From the 1930's to 1987, several large-scale archeological excavations undertaken at the Moundville sites on behalf of the University of Alabama resulted in the removal of Native American human remains. In January of 1987, Dr. Margaret Schoeninger and two colleagues requested samples of fragmentary human remains from the University of Alabama Museum Collections for the purpose of diet and ecology reconstruction research pertaining to Moundville I, II, and III phases. In response, samples from the various Moundville sites were transferred to Dr. Schoeninger and her colleagues. Sometime in the 2000s, the Moundville sample collection and limited supporting documentation were transferred to the University of California, San Diego. In June of 2020, the University of California, San Diego became aware of this collection. The one associated funerary object is one lot of faunal remains.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, oral traditional, and historical.

Determinations

Pursuant to NAGPRA and its implementing regulations, and after consultation with the appropriate Indian Tribes and Native Hawaiian organizations, the University of California, San Diego has determined that:

• The human remains described in this notice represent the physical remains of 478 individuals of Native American ancestry.

• The one lot of objects described in this notice are reasonably believed to have been placed with or near individual human remains at the time of death or later as part of the death rite or ceremony.

• There is a relationship of shared group identity that can be reasonably traced between the human remains and associated funerary objects described in this notice and present-day Muskogean speaking Tribes, namely the Alabama-Coushatta Tribe of Texas (previously listed as Alabama-Coushatta Tribes of Texas); Alabama-Quassarte Tribal Town; Coushatta Tribe of Louisiana; Jena Band of Choctaw Indians; Seminole Tribe of Florida (previously listed as Seminole Tribe of Florida (Dania, Big Cypress, Brighton, Hollywood, & Tampa Reservations)); The Chickasaw Nation; The Choctaw Nation of Oklahoma; The Muscogee (Creek) Nation; The Seminole Nation of Oklahoma; and the Thlopthlocco Tribal Town.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 13, 2023. If competing requests for repatriation are received, the University of California, San Diego must determine the most appropriate requestor prior to repatriation. Requests for joint repatriation of the human remains and associated funerary objects are considered a single request and not competing requests. The University of California, San Diego is responsible for sending a copy of this notice to the Indian Tribes identified in this notice.

Authority: Native American Graves Protection and Repatriation Act, 25 U.S.C. 3003, and the implementing regulations, 43 CFR 10.9, 10.10, and 10.14.

Dated: January 4, 2023.
Melanie O'Brien,
Manager, National NAGPRA Program.

[FR Doc. 2023-00472 Filed 1-11-23; 8:45 am]

BILLING CODE 4312-52-P